DEPARTMENT OF HEALTH AND HUMAN SERVICES

Centers for Disease Control and Prevention

Board of Scientific Counselors, Coordinating Center for Infectious Diseases (BSC, CCID)

In accordance with section 10(a)(2) of the Federal Advisory Committee Act (Pub. L. 92-463), the Centers for Disease Control and Prevention (CDC), announces the following meeting for the aforementioned committee:

Times and Dates:

9 a.m.-5 p.m., May 6, 2008.

8:30 a.m.-3:30 p.m., May 7, 2008.

Place: CDC Global Conference Center, Building 19, 1600 Clifton Road, NE., Atlanta, Georgia 30333.

Status: Open to the public, limited only by the space available.

Purpose: The Board of Scientific Counselors, CCID, provides advice and guidance to the Director, CDC, and Director, CCID, in the following areas: program goals and objectives; strategies; program organization and resources for infectious disease prevention and control; and program priorities.

Matters to be Discussed: Agenda items will include:

1. Breakout Group Discussions:

Surveillance (National Center for Preparedness, Detection, and Control of Infectious Diseases).

Respiratory Diseases Strategic Planning (National Center Immunization and Respiratory Diseases).

Vaccine Analytic Unit (National Center Immunization and Respiratory Diseases).

Program Collaboration and Service Integration (National Center for HIV/AIDS, Viral Hepatitis, STD, and TB Prevention).

International Activities (National Center for Zoonotic, Vector-Borne, and Enteric Diseases).

Strategic Planning and Linking to CDC Goals (National Center for Zoonotic, Vector-Borne, and Enteric Diseases).

2. Updates on Surveillance Systems: Biosurveillance.

3. Strategic Directions for CCID.

4. Budget Updates.

Written comments are welcome and should be received by the contact person listed below prior to the opening of the meeting.

Contact Person for More Information: Harriette Lynch, Office of the Director, CCID, CDC, Mailstop A-45, 1600 Clifton Road, NE., Atlanta, Georgia 30333, Telephone (404) 639-4035.

The Director, Management Analysis and Services office has been delegated the authority to sign Federal Register notices pertaining to announcements of meetings and other committee management activities, for both the Centers for Disease Control and Prevention and the Agency for Toxic Substances and Disease Registry.

Dated: April 9, 2008.
Elaine L. Baker,
Director, Management Analysis and Services Office, Centers for Disease Control and Prevention.

[FR Doc. E8-8336 Filed 4-16-08; 8:45 am]

BILLING CODE 4163-18-P